DEPARTMENT OF HOMELAND SECURITY

Coast Guard

[Docket No. USCG-2015-0474]

Merchant Marine Personnel Advisory Committee

AGENCY: Coast Guard, DHS.

ACTION: Notice of Federal Advisory Committee Working Group Meeting.

SUMMARY: A working group of the Merchant Marine Personnel Advisory Committee will meet to work on Task Statement 30, concerning utilizing military education, training, and assessment for Standards of Training, Certification and Watchkeeping for Seafarers and National Certifications. This meeting will be open to the public.

DATES: The Merchant Marine Personnel Advisory Committee working group will meet on August 5 and 6, 2015, from 8 a.m. until 5:30 p.m. Please note that these meetings may adjourn early if all business is finished. Written comments for distribution to working group members and inclusion on the Merchant Marine Personnel Advisory Committee's Web site must be submitted by July 25, 2015.

ADDRESSES: The working group will meet in Suite 605 of the Radio Technical Commission for Maritime Services at 1611 N. Kent Street, Arlington, VA 22209

To facilitate public participation, we are inviting public comment on the issues to be considered by the working group, as listed in the “Agenda” section below. Written comments must be identified by Docket No. USCG-2015-0474, and submitted by one of the following methods:

• Federal eRulemaking Portal:

http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number for the Docket Management Facility is 202-366-9329.

Instructions: All written comments received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow instructions on the Web site.

A public oral comment period will be held each day during the working group meeting and speakers are requested to limit their comments to 3 minutes. Please note that the public oral comment periods may end before the prescribed ending times following the last call for comments. Contact Mr. Davis Breyer as indicated below no later than July 25, 2015 to register as a speaker.

This notice may be viewed in our online docket, USCG-2015-0474, at http://www.regulations.gov.

FOR FURTHER INFORMATION CONTACT: Mr. Davis Breyer, Alternate Designated Federal Officer of the Merchant Marine Personnel Advisory Committee, telephone 202-372-1445 or at davis.j.breyer@uscg.mil about any questions on the task statement. If you have any questions on viewing or submitting material to the docket, call Cheryl Collins, Program Manager, Docket Operations, telephone 202-366-9826 or 1-800-647-5527. For information on the location of Radio Technical Commission for Maritime Services, see http://rtcm.org/visit.php or contact Mr. Bob Markle at (703) 527-2000 or by email at rmarkle@rtcm.org for more information including services for individuals with disabilities or to request special assistance.

SUPPLEMENTARY INFORMATION: Notice of this meeting is given under the Federal Advisory Committee Act, Title 5 United States Code Appendix.

The Merchant Marine Personnel Advisory Committee was established under authority of section 310 of the Howard Coble Coast Guard and Maritime Transportation Act of 2014, Title 46, United States Code, section 8108, and chartered under the provisions of the Federal Advisory Committee Act. The Committee acts solely in an advisory capacity to the Secretary of the Department of Homeland Security through the Commandant of the Coast Guard on matters relating to personnel in the U.S. merchant marine, including training, qualifications, certification, documentation, and fitness standards and other matters as assigned by the Commandant; shall review and comment on proposed Coast Guard regulations and policies relating to personnel in the United States merchant marine, including training, qualifications, certification, documentation, and fitness standards; may be given special assignments by the Secretary and may conduct studies, inquiries, workshops, and fact finding in consultation with individuals and groups in the private sector and with State or local governments; shall advise, consult with, and make recommendations reflecting its independent judgment to the Secretary.

A copy of all meeting documentation, including the Task Statement, is available at https://homeport.uscg.mil/by using these key strokes: Missions; Port and Waterways; Safety Advisory Committees; MERPAC; and then use the announcements key. Alternatively, you may contact Mr. Breyer as noted in the FOR FURTHER INFORMATION CONTACT section above.

Agenda

The agenda for the August 5, 2015, working group meeting is as follows:

(1) Comment period for all attendees to discuss information that might assist the working group and the Merchant Marine Personnel Advisory Committee in meeting its objectives for Task Statement 30, concerning utilizing military education, training, and assessment for Standards of Training, Certification and Watchkeeping for Seafarers and National Certifications;

(2) The working group will review and develop proposed recommendations for Task Statement 30; and

(3) Adjournment of meeting.

The agenda for the August 6 2015, working group meeting is as follows:

(1) The working group will review and develop proposed recommendations concerning utilizing military education, training, and assessment for Standards of Training, Certification and Watchkeeping for Seafarers and National Certifications;

(2) Public comment period;

(3) The working group will discuss and finalize proposed recommendations for the full committee to consider with regards to Task Statement 30, concerning utilizing military education, training, and assessment for Standards of Training, Certification and Watchkeeping for Seafarers and National Certifications; and

(4) Adjournment of meeting.

Dated: 26 June, 2015.
F.J. Sturm,
Acting Director of Commercial Regulations and Standards.

[FR Doc. 2015-16297 Filed 7-1-15; 8:45 am]

BILLING CODE 9110-04-P